DEPARTMENT OF LABOR

Employment and Training Administration

[TA-W-50,073]

Collins & Aikman Automotive Systems, Marshall, MI; Notice of Negative Determination Regarding Application for Reconsideration

By application of May 30, 2003, the International Union, UAW, Region 1C and Local Union 1294 requested administrative reconsideration of the Department's negative determination regarding eligibility to apply for Trade Adjustment Assistance (TAA), applicable to workers and former workers of the subject firm. The denial notice was signed on April 16, 2003, and published in the Federal Register on May 1, 2003 (68 FR 23322).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Collins & Aikman Automotive Systems, Marshall, Michigan was denied because the “contributed importantly” group eligibility requirement of Section 222(3) of the Trade Act of 1974 was not met. The “contributed importantly” test is generally demonstrated through a survey of customers of the workers' firm. The survey revealed that none of the respondents increased their purchases of vibration dampeners. The company did not import vibration dampeners in the relevant period nor did it shift production to a foreign source.

The union asserts that the company shifted production to Canada, and in support of this, includes a letter dated October 1, 2002 from a former company official who indicates that some plant production previously supplied by the subject plant to an affiliated Canadian facility was outsourced to a Canadian vendor.

A review of the initial investigation revealed that the same company official who provided the letter noted above also provided information to the Department in March of 2003. This information included a table that clearly delineated which customers were responsible for sales losses from the subject plant in the relevant period, and provides exact figures of the volume of sales loss that each customer was responsible for. The table further indicates that a Collin's & Aikman facility in Canada ceased purchasing vibration deadeners from the subject facility, and that this production was “resourced to another vendor”. However, in context to total plant production, the sales loss to this customer was negligible. Further, in a communication with the Department during the initial investigation, this same company official stated that it was the decline in business from another customer who represented the overwhelming majority of subject plant business that precipitated the shift in production to another domestic facility, and subsequent closure of the subject plant.

The union appears to allege that a significant shift in production to Canada is indicated in a local new article that mentions the closure of two Collins & Aikman domestic plants (including the subject facility) and later states that a Collins & Aikman facility in Ontario, Canada “took on more business as Collins & Aikman restructured with work transferred from closed plants.” The union infers that the subject plant must be one of the plants that shifted production to Canada because it is one of two plants mentioned as being closed.

As already indicated, a negligible amount of production was shifted from the subject facility to Canada, albeit not significant enough to contribute significantly to layoffs. Plant closure is predominantly attributable to the decline in business from the subject facility's largest customer and a subsequent decision by the company to shift production from the subject facility to another domestic facility in Ohio.

Conclusion

After review of the application and investigative findings, I conclude that there has been no error or misinterpretation of the law or of the facts which would justify reconsideration of the Department of Labor's prior decision. Accordingly, the application is denied.

Signed at Washington, DC this 27th day of June, 2003.
Elliott S. Kushner,
Certifying Officer, Division of Trade Adjustment Assistance.

[FR Doc. 03-17822 Filed 7-14-03; 8:45 am]

BILLING CODE 4510-30-P